DEPARTMENT OF TRANSPORTATION

Surface Transportation Board

[STB Finance Docket No. 34873)

South Kansas & Oklahoma Railroad, Inc.—Trackage Rights Exemption—BNSF Railway Company

BNSF Railway Company (BNSF) has agreed to grant restricted overhead trackage rights to South Kansas & Oklahoma Railroad, Inc. (SKO), over BNSF's line of railroad between milepost 249.7, near W.N. Junction, KS, and milepost 206.0, in Wichita, KS, a total distance of approximately 43.7 miles. The use of the trackage rights line by SKO will be limited to certain overhead movements. In addition, BNSF has granted SKO local trackage rights at milepost 215.36 on the line for the limited purpose of serving the customer at that location.¹

¹ The trackage rights agreement was filed under seal. SKO subsequently filed a motion for protective order.

The transaction was scheduled to be consummated on the May 1, 2006 effective date of the exemption.

The purpose of the trackage rights is to enable SKO to handle overhead traffic between Winfield, KS, and Wichita, and to serve the customer located at milepost 215.36 on the BNSF line.

As a condition of this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34873, must be filed with the Surface Transportation Board, 1925 K Street, NW., Washington DC 20423-0001. In addition, a copy of each pleading must be served on Karl Morell, Of Counsel, Ball Janik LLP, Suite 225, 1455 F Street, NW., Washington, DC 20005.

Board decisions and notices are available on our Web site at http://www.stb.dot.gov.

Decided: May 8, 2006.
By the Board, David M. Konschnik, Director, Office of Proceedings.
Vernon A. Williams,
Secretary.

[FR Doc. E6-7261 Filed 5-11-06; 8:45 am]

BILLING CODE 4915-01-P